DEPARTMENT OF HOMELAND SECURITY

Notice to Nonimmigrant Aliens Subject To Be Enrolled in the United States Visitor and Immigrant Status Indicator Technology System

AGENCY: Department of Homeland Security.

ACTION: Notice.

SUMMARY: This notice states the requirements for the first phase of the US-VISIT program, implemented pursuant to a Department of Homeland Security (Department) interim rule (see Department interim rule published elsewhere in this issue of the Federal Register). This notice requires certain nonimmigrant aliens to provide fingerprints, photographs or other biometric identifiers if arriving in or departing from the United States through designated air or sea ports of entry on or after January 5, 2004. This Notice applies to aliens applying for admission or admitted pursuant to a nonimmigrant visa who arrive in or depart from an air or sea port of entry designated in this Notice. The requirements and exemptions are specified in this Notice.

EFFECTIVE DATES: This notice is effective January 5, 2004.

FOR FURTHER INFORMATION CONTACT: Patrice Ward, Chief Inspector, Air and Sea Exit Manager, US-VISIT, Border and Transportation Security; Department of Homeland Security; 1616 North Fort Myer Drive, 5th Floor, Arlington, VA 22209, telephone (202) 298-5200.

SUPPLEMENTARY INFORMATION: The Department of Homeland Security (Department) has established the United States Visitor and Immigrant Status Indicator Technology Program (US-VISIT) in accordance with several Congressional mandates requiring that the Department create an integrated, automated entry exit system that records the arrival and departure of aliens; that equipment be deployed at all ports of entry to allow for the verification of aliens' identities and the authentication of their travel documents through the comparison of biometric identifiers; and that the entry exit system record alien arrival and departure information from these biometrically authenticated documents. 8 U.S.C. 1187, 1365a and note, 1379, 1731-31.

Concurrently with this Notice, the Department is amending several regulations to implement the first phase of US-VISIT. (See Department interim rule published elsewhere in this issue of the Federal Register.) Department regulation 8 CFR 214.1, as amended, states that a nonimmigrant alien's admission to the United States is conditioned on compliance with any inspection requirement in 8 CFR 235.1(d) of this chapter. New regulation 8 CFR 215.8 states that the Secretary of Homeland Security or his delegate may establish pilot programs at up to fifteen air or sea ports of entry through which the Secretary or his delegate may require an alien admitted pursuant to a nonimmigrant visa who is departing from the United State from a designated air or sea port of entry to provide fingerprints, photograph(s) or other specified biometric identifiers, documentation of their immigration status in the United States, and such other evidence as may be requested to determine the alien's identity and whether he or she had properly maintained his or her status while in the United States. Department regulation at 8 CFR 235.1(d)(1), as amended, provides that the Secretary of Homeland Security or his delegate may require nonimmigrant aliens seeking admission pursuant to a nonimmigrant visa at an air or sea port of entry designated by a notice in the Federal Register to provide fingerprints, photograph(s) or other specified biometric identifiers during the inspection process.

Notice of Requirements for Biometric Collection From Certain Nonimmigrant Aliens

Pursuant to 8 CFR 235.1(d)(1) and 215.8, I hereby order as follows:

(a) Aliens subject to Notice. Aliens applying for admission or admitted pursuant to a nonimmigrant visa are subject to this Notice and may be required to provide biometric information at time of application for admission to or departure from the United States.

(b) Aliens exempt. This Notice does not apply to (i) aliens admitted on a A-1, A-2, C-3 (except for attendants, servants or personal employees of accredited officials), G-1, G-2, G-3, G-4, NATO-1, NATO-2, NATO-3, NATO-4, NATO-5, or NATO-6 visas, unless the Secretary of State and the Secretary of Homeland Security jointly determine that a class of such aliens should be subject to this Notice, (ii) children under the age of 14, (iii) persons over the age of 79, (iv) classes of aliens the Secretary of Homeland Security and the Secretary of State jointly determine shall be exempt, or (v) an individual alien the Secretary of Homeland Security, the Secretary of State or the Director of Central Intelligence determines shall be exempt. Aliens admitted on an A-1, A-2, C-3 (except for attendants, servants or personal employees of accredited officials), G-1, G-2, G-3, G-4, NATO-1, NATO-2, NATO-3, NATO-5, or NATO-6 visas who are no longer in such status on date of departure, however, are subject to the departure requirements of this Notice.

(c) Biometric Information. All aliens subject to this Notice shall: (1) Upon arrival at designated air and seaports, submit fingerprints and photographs as requested by an immigration officer; and (2) at time of departure from designated air and sea ports, submit fingerprints and electronically scan their nonimmigrant visas or passport as requested at the departure inspection locations.

(d) Air ports of entry designated for US-VISIT inspection at time of alien arrival:

Agana, Guam (Agana International Airport)

Aguadilla, Puerto Rico (Rafael Hernandez Airport)

Albuquerque, New Mexico (Albuquerque International Airport)

Anchorage, Alaska (Anchorage International Airport)

Aruba (Pre-Flight Inspection)

Atlanta, Georgia (William B. Hartsfield International Airport)

Austin, Texas (Austin Bergstrom International Airport)

Baltimore, Maryland (Baltimore/Washington International Airport)

Bangor, Maine (Bangor International Airport)

Bellingham, Washington (Bellingham International Airport)

Boston, Massachusetts (General Edward Lawrence Logan International Airport)

Brownsville, Texas (Brownsville/South Padre Island Airport)

Buffalo, New York (Greater Buffalo International Airport)

Calgary, Canada (Pre-Flight Inspection)

Chantilly, Virginia (Washington Dulles International Airport)

Charleston, South Carolina (Charleston International Airport)

Charlotte, North Carolina (Charlotte/Douglas International Airport)

Chicago, Illinois (Chicago Midway Airport)

Chicago, Illinois (Chicago O'Hare International Airport)

Cincinnati, Ohio (Cincinnati/Northern Kentucky International Airport)

Cleveland, Ohio (Cleveland Hopkins International Airport)

Columbus, Ohio (Rickenbacker International Airport)

Columbus, Ohio (Port Columbus International Airport)

Dallas/Fort Worth, Texas (Dallas/Fort Worth International Airport)

Del Rio, Texas (Del Rio International Airport)

Denver, Colorado (Denver International Airport)

Detroit, Michigan (Detroit Metropolitan Wayne County Airport)

Dover/Cheswold, Delaware (Delaware Airpark)

Dublin, Ireland (Pre-Flight Inspection)

Edmonton, Canada (Pre-Flight Inspection)

El Paso, Texas (El Paso International Airport)

Erie, Pennsylvania (Erie International Airport)

Fairbanks, Alaska (Fairbanks International Airport)

Fajardo, Puerto Rico (Diego Jimenez Torres Airport)

Fort Lauderdale, Florida (Fort Lauderdale Executive Airport)

Fort Lauderdale, Florida (Fort Lauderdale/Hollywood International Airport)

Fort Myers, Florida (Fort Myers International Airport)

Freeport, Bahamas (Pre-Flight Inspection)

Greenville, South Carolina (Donaldson Center Airport)

Hamilton, Bermuda (Pre-Flight Inspection)

Hartford/Springfield, Connecticut (Bradley International Airport)

Honolulu, Hawaii (Honolulu International Airport)

Houston, Texas (Houston International Airport)

Indianapolis, Indiana (Indianapolis International Airport)

International Falls, Minnesota (Falls International Airport)

Isla Grande, Puerto Rico (Isla Grande Airport)

Jacksonville, Florida (Jacksonville International Airport)

Juneau, Alaska (Juneau International Airport)

Kansas City, Kansas (Kansas City International Airport)

Kenmore, Washington (Kenmore Air Harbor)

Key West, Florida (Key West International Airport)

King County, Washington (King County International Airport)

Kona, Hawaii (Kona International Airport)

Laredo, Texas (Laredo International Airport and Laredo Private Airport)

Las Vegas, Nevada (McCarren International Airport)

Los Angeles, California (Los Angeles International Airport)

Manchester, New Hampshire (Manchester Airport)

Mayaguez, Puerto Rico (Eugenio Maria de Hostos Airport)

McAllen, Texas (McAllen Miller International Airport)

Memphis, Tennessee (Memphis International Airport)

Miami, Florida (Kendall/Tamiami Executive Airport)

Miami, Florida (Miami International Airport)

Milwaukee, Wisconsin (General Mitchell International Airport)

Minneapolis/St. Paul, Minnesota (Montreal, Canada (Pre-Flight Inspection)

Nashville, Tennessee (Nashville International Airport)

Nassau, Bahamas (Pre-Flight Inspection)

New Orleans, Louisiana (New Orleans International Airport)

New York, New York (John F. Kennedy International Airport)

Newark, New Jersey (Newark International Airport)

Norfolk, Virginia (Norfolk International Airport and Norfolk Naval Air Station)

Oakland, California (Metropolitan Oakland International Airport)

Ontario, California (Ontario International Airport)

Opa Locka/Miami, Florida (Opa Locka Airport)

Orlando, Florida (Orlando International Airport)

Orlando/Sanford, Florida (Orlando/Sanford Airport)

Ottawa, Canada (Pre-Flight Inspection)

Philadelphia, Pennsylvania (Philadelphia International Airport)

Phoenix, Arizona (Phoenix Sky Harbor International Airport)

Pittsburgh, Pennsylvania (Pittsburgh International Airport)

Ponce, Puerto Rico (Mercedita Airport)

Portland, Maine (Portland International Jetport Airport)

Portland, Oregon (Portland International Airport)

Portsmouth, New Hampshire (Pease International Tradeport Airport)

Providence, Rhode Island (Theodore Francis Green State Airport)

Raleigh/Durham, North Carolina (Raleigh/Durham International Airport)

Reno, Arizona (Reno/Tahoe International Airport)

Richmond, Virginia (Richmond International Airport)

Sacramento, California (Sacramento International Airport)

Salt Lake City, Utah (Salt Lake City International Airport)

San Antonio, Texas (San Antonio International Airport)

San Diego, California (San Diego International Airport)

San Francisco, California (San Francisco International Airport)

San Jose, California (San Jose International Airport)

San Juan, Puerto Rico (Luis Muñoz Marin International Airport)

Sandusky, Ohio (Griffing Sandusky Airport)

Sarasota/Bradenton, Florida (Sarasota-Bradenton International Airport)

Seattle, Washington (Seattle/Tacoma International Airport)

Shannon, Ireland (Pre-Flight Inspection)

Spokane, Washington (Spokane International Airport)

St. Croix, Virgin Island (Alexander Hamilton International Airport)

St. Louis, Missouri (St. Louis International Airport)

St. Lucie, Florida (St. Lucie County International Airport)

St. Petersburg, Florida (Albert Whitted Airport)

St. Thomas, Virgin Island (Cyril E. King International Airport)

Tampa, Florida (Tampa International Airport)

Teterboro, New Jersey (Teleboro Airport)

Toronto, Canada (Pre-Flight Inspection)

Tucson, Arizona (Tucson International Airport)

Vancouver, Canada (Pre-Flight Inspection)

Victoria, Canada (Pre-Flight Inspection)

West Palm Beach, Florida (Palm Beach International Airport)

Wilmington, North Carolina (Wilmington International Airport)

Winnipeg, Canada (Pre-Flight Inspection)

Yuma, Arizona (Yuma International Airport)

(e) Air port of entry designated for US-VISIT inspection at time of alien departure:

Baltimore, Maryland

(f) Sea ports of entry designated for US-VISIT inspection at time of alien arrival:

Galveston, Texas

Jacksonville, Florida

Long Beach, California

Miami, Florida

Port Canaveral, Florida

San Juan, Puerto Rico

San Pedro, California

Seattle, Washington (Cruise Terminal)

Seattle, Washington

Tampa, Florida (Terminal 3)

Tampa, Florida (Terminal 7)

Vancouver, Canada (Ballantyne Pier)

Vancouver, Canada (Canada Place)

Victoria, Canada (Pre Inspection)

West Palm Beach, Florida

(g) Sea port of entry designated for US-VISIT inspection at time of alien departure:

Miami, Florida

The US-VISIT System Is Maintained Consistent With Privacy and Due Process Principles

The Department's Privacy Office, in conjunction with the US-VISIT Privacy Officer, will exercise oversight of the US-VISIT program to ensure that the information collected and stored in systems associated with US-VISIT is being properly protected under the privacy laws and guidance (68 FR 69412, dated December 12, 2003).

The Department has the responsibility to ensure the security, accuracy, relevance, timeliness and completeness of the information maintained in the US-VISIT system. Information is safeguarded in terms of applicable rules and policies, including the Department's automated systems security and access policies. Only those individuals who have an official need for access to the system in the performance of their duties will, in fact, have access to the system. Records of those individuals who become U.S. citizens and legal permanent resident aliens will be protected in line with all applicable privacy laws and regulations. Those, including nonimmigrant aliens, who wish to contest or seek a change of their records should direct a written request to the US-VISIT Program Office at the following address: Steve Yonkers, Privacy Officer, US-VISIT, Border and Transportation Security, Department of Homeland Security, Washington, DC 20528. Phone (202) 927-5200. Fax (202) 298-5201. The request should include the requestor's full name, current address and date of birth, and a detailed explanation of the change sought. If the matter cannot be resolved by the system manager, further appeal for resolution may be made to the DHS Privacy Officer at the following address: Nuala O'Connor Kelly, Chief Privacy Officer, U.S. Department of Homeland Security, Washington, DC 20528, telephone (202) 282-8000, facsimile (202) 772-5036.

Dated: December 30, 2003.
Tom Ridge,
Secretary of Homeland Security.

[FR Doc. 03-32333 Filed 12-31-03; 11:51 am]

BILLING CODE 4410-10-U